DEPARTMENT OF STATE

[Public Notice: 7371]

Office of the Chief of Protocol; Gifts to Federal Employees From Foreign Government Sources Reported by Employing Agencies in Calendar Year 2009; Correction

AGENCY: Department of State.

ACTION: Notice; Correction.

SUMMARY: The Department of State published a document in the Federal Register of January 18, 2011 concerning Gifts to Federal Employees from Foreign Government Sources Reported to Employing Agencies in Calendar Year 2009. The document contained the incorrect title of a foreign dignitary.

FOR FURTHER INFORMATION CONTACT: David Solomon, Office of the Chief of Protocol (202) 647-1333/Solomonda@State.gov.

Correction

In the Federal Register of January 18, 2011 in FR Vol. 76, No. 11, page 2983, in the third entry in the third column under “Identity of foreign donor and government”, the title of the President of the Constitutional Court of Korea is incorrect and should be changed from “President Kang-Kook Lee, Constitutional Court of Korea, Democratic People's Republic of Korea” to read: “President Kang-Kook Lee, Constitutional Court of Korea, Republic of Korea”.

Dated: March 14, 2011.
Patrick F. Kennedy,
Under Secretary for Management, Department of State.

[FR Doc. 2011-6457 Filed 3-17-11; 8:45 am]

BILLING CODE 4710-10-P